Proclamation 9205 of October 31, 2014

National Entrepreneurship Month, 2014

By the President of the United States of America

A Proclamation

Across our Nation, in laboratories and around kitchen tables, passionate and creative entrepreneurs are developing new sources of clean energy, cures for life-threatening diseases, and inventions that will transform the way we see the world. America has always been a country of risk takers and dreamers—where anyone who is willing to work hard can turn a good idea into a thriving business—and our spirit of ingenuity remains a powerful engine of growth, creating jobs and bolstering our economy. This month, we recognize the grit and determination of American inventors and innovators and their many contributions to our Nation, and we reaffirm our commitment to support these entrepreneurs as they develop the products, services, and ideas of tomorrow.

Our country seeks to empower a rising generation of talented and striving innovators and to ensure they have opportunities to pursue their aspirations and take the risks that make America great. That is why my Administration has expanded grants, tax credits, and loans to help more families afford a college degree. We are investing in programs that encourage science, technology, engineering, and math education, especially for traditionally underrepresented groups. We have given nearly 5 million Americans the chance to cap their student loan payments at 10 percent of their income, freeing them to pursue new ideas and unsolved problems. And the Affordable Care Act enables entrepreneurs to set out and build the future they seek by providing the security of quality, affordable health care.

As we work to create a new foundation of growth and prosperity, my Administration is taking action to ensure startups and innovators have the resources and access to capital they need to take ideas from the drawing board to the factory floor to the store shelf. Now in its fourth year, our Startup America initiative has brought the Federal Government and private sector partners together to cut red tape for entrepreneurs, speed up innovation, and help get businesses off the ground and scale up more quickly. We are redoubling our support for an open Internet and open data as fundamentals of innovation. We have committed to investing billions of dollars in our small businesses and startups, and we are accelerating the transfer of federally funded research from the laboratory to the commercial marketplace. We have made new efforts to welcome entrepreneurial companies as customers of the Federal Government, and since taking office, I have signed 18 tax cuts for small businesses into law, as well as bipartisan legislation that has helped enable more emerging growth companies to access public capital markets. And because many of the highly skilled workers and talented thinkers on whom our startups depend are first-generation Americans, I continue to call on the Congress to enact comprehensive immigration reform—and I am prepared to address our broken immigration system through executive action in a way that is sustainable and effective, and within the confines of the law.

Bringing together America's best and brightest innovators creates important opportunities for mentorship within the startup and small business communities, and it allows policymakers to hear directly from entrepreneurs. This year, we launched the Presidential Ambassadors for Global Entrepreneurship. A first-of-its-kind collaboration between successful American businesspeople and the Federal Government, this group is helping to cultivate startup communities and champion entrepreneurship both here at home and overseas. We also hosted inventors from around the country this year at the first-ever White House Maker Faire. And later this month, my Administration is supporting the 5th annual Global Entrepreneurship Summit in Morocco, to foster entrepreneurial success and prosperity around the world.

When we encourage entrepreneurs and the ideas they introduce to the world, we strengthen our communities and help secure America's promise for future generations. As we observe National Entrepreneurship Month and celebrate Global Entrepreneurship Week, let us continue our work to ensure America remains home to the best minds and the most innovative businesses on earth.

NOW, THEREFORE, I, BARACK OBAMA, President of the United States of America, by virtue of the authority vested in me by the Constitution and the laws of the United States, do hereby proclaim November 2014 as National Entrepreneurship Month. I call upon all Americans to commemorate this month with appropriate programs and activities, and to celebrate November 18, 2014, as National Entrepreneurs' Day.

IN WITNESS WHEREOF, I have hereunto set my hand this thirty-first day of October, in the year of our Lord two thousand fourteen, and of the Independence of the United States of America the two hundred and thirty-ninth.

[FR Doc. 2014-26493

Filed 11-5-14; 8:45 am]

Billing code 3295-F5